NATIONAL AERONAUTICS AND SPACE ADMINISTRATION

[Notice 06-036]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATE: May 30, 2006.

FOR FURTHER INFORMATION CONTACT: James J. McGroary, Patent Counsel, Marshall Space Flight Center, Mail Code LS01, Huntsville, AL 35812; telephone (256) 544-0013; fax (256) 544-0258.

NASA Case No. MFS-32137-1: Low Power, High Voltage Power Supply With Fast Rise/Fall Time.

Dated: May 23, 2006.
Keith T. Sefton,
Deputy General Counsel, Administration and Management.

[FR Doc. 06-4942 Filed 5-26-06; 8:45 am]

BILLING CODE 7510-13-P